DEPARTMENT OF COMMERCE

International Trade Administration

Proposed Information Collection; Comment Request; Internet Web Site Forms

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 27, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Susan Crawford—phone: (202) 482-2050, Susan.Crawford@mail.doc.gov, fax: (202) 482-2599.

SUPPLEMENTARY INFORMATION:

I. Abstract

The International Trade Administration's U.S. Commercial Service (CS) is mandated by Congress to help U.S. businesses, particularly small and medium-sized companies, export their products and services to global markets. The Commercial Service provides this valuable assistance through a variety of channels including U.S. Export Assistance Center (USEAC) Web sites and the International Trade Administration's Export.gov Web site.

The CS operates 117 Export Assistance Centers throughout the U.S. where U.S. companies can meet with International Trade Specialists to receive export counseling and other export-related services such as market research, due diligence and foreign partner identification. Prior to meeting with a Trade Specialist a U.S. company may visit a USEAC Web site and complete a USEAC Internet Form to request that a Trade Specialist contact them. This USEAC Interest Form asks clients to provide company contact information and some company details including products or services to be exported and potential export markets of interest. This information allows the Trade Specialist to contact the client and make appropriate preparations for the initial client discussion. Although each USEAC will require similar information about a client, there may be some very minor modifications to the USEAC Internet Form depending upon unique circumstances at a particular USEAC.

The CS would also like to renew approval for a revised Export.gov Web site registration form. ITA's Export.gov Web site provides U.S. businesses with valuable export-related resources including an export manual and information regarding export topics such as financing, international logistics, export documentation, trade leads and trade events. Clients are required to register on the site to gain access to certain information such as trade leads and market research which are only available to American companies. The registration information also allows CS to tailor the Web site to improve usability and better meet clients' needs. For example a firm that registers as being “new to exporting” would be directed to basic exporting information that is most appropriate for firms that have not yet exported. Whereas a firm that registers as an experienced exporter, who has already mastered exporting basics, would be directed to resources that are targeted to companies that are ready to expand current export efforts and seek new markets.

II. Method of Collection

In the majority of cases the information will be collected electronically via the Internet, although some clients may submit the information via telephone, fax, or e-mail.

III. Data

OMB Control Number: 0625-0237.

Form Number(s): ITA-4148P.

Type of Review: Regular submission.

Affected Public: Business or other for-profit organizations.

Estimated Number of Respondents: 19,000.

Estimated Time per Response: 5 minutes.

Estimated Total Annual Burden Hours: 1,583.

Estimated Total Annual Cost to Public: None.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 21, 2008.
Gwellnar Banks,
Management Analyst, Office of the Chief Information Officer.

[FR Doc. E8-28215 Filed 11-26-08; 8:45 am]

BILLING CODE 3510-FP-P